DEPARTMENT OF THE INTERIOR

Office of the Secretary

Regional Tribal Consultations on Implementation of Indian Land Consolidation Program Under Cobell Settlement

AGENCY: Office of the Secretary, Interior.

ACTION: Notice of Regional Tribal Consultation Meetings.

SUMMARY: The Office of the Secretary is announcing that it will conduct a series of regional consultation meetings with Indian tribes to obtain oral and written comments concerning the implementation of the Indian Land Consolidation Program (ILCP) under the terms of the Cobell Settlement. The initial regional consultation meeting in Billings, Montana, was announced by a previous notice in the Federal Register. This notice announces five additional regional consultation meetings. See the SUPPLEMENTARY INFORMATION section of this notice for details.

DATES: The first regional tribal consultation meeting will take place on Friday, July 15, 2011, in Billings, Montana. Additional regional consultations will take place on Thursday, August 18, 2011, in Minneapolis, Minnesota; Friday, September 16, 2011, in Seattle, Washington; Tuesday, September 27, 2011, in Albuquerque, New Mexico; Thursday, September 29, 2011, in Phoenix, Arizona; and Thursday, October 6, 2011, in Oklahoma City, Oklahoma. Comments for all aforementioned consultations must be received by October 15, 2011.

ADDRESSES: Michele F. Singer, Director, Office of Regulatory Affairs and Collaborative Action, Office of the Assistant Secretary—Indian Affairs, 1001 Indian School Road, NW., Suite 312, Albuquerque, NM 87104.

FOR FURTHER INFORMATION CONTACT: Michele F. Singer, telephone (505) 563-3805; fax (505) 563-3811 or access additional details for each consultation via the DOI Cobell website at www.doi.gov/cobell.

SUPPLEMENTARY INFORMATION:

I. Background

The Bureau of Indian Affairs' ILCP purchases fractionated interests of individually owned trust or restricted fee lands and transfers those consolidated interests into tribal ownership pursuant to the Indian Land Consolidation Act, 25 U.S.C. 2201 et seq. The Indian Claims Resolution Act of 2010, Public Law 111-291, makes available $1.9 billion, the majority of which will be used by the Secretary to operate the ILCP with the purpose addressing the problem of fractionation. The Act requires consultation with Indian tribes to identify fractional interests within the respective jurisdictions of the Indian tribes that the Department may want to consider purchasing.

Information and statistics regarding the issue of land fractionation will be distributed to the federally-recognized Indian tribes prior to the consultations. The information will also be made available to attendees on the day of each consultation.

II. Meeting Details

The Office of the Secretary will hold a series of regional tribal consultation meetings on the following schedule:

Date | Time | Location
Friday, July 15, 2011 | 8 a.m.-4 p.m | Holiday Inn Grand Montana Hotel & Convention Center 5500 Midland Road Billings, MT 59101, (406) 248-7701, www.billingsholidayinn.com.
Thursday, August 18, 2011 | 8 a.m.-4 p.m | Minneapolis, MN—venue to be determined.
Friday, September 16, 2011 | 8 a.m.-4 p.m | Seattle, WA—venue to be determined.
Tuesday, September 27, 2011 | 8 a.m.-4 p.m | Albuquerque, NM—venue to be determined.
Thursday, September 29, 2011 | 8 a.m.-4 p.m | Phoenix, AZ—venue to be determined.
Thursday, October 6, 2011 | 8 a.m.-4 p.m | Oklahoma City, OK—venue to be determined.

Written comments will be accepted through October 15, 2011, and may be sent to the official listed in the ADDRESSES section above.

Dated: July 12, 2011.
David J. Hayes,
Deputy Secretary of the Interior.

[FR Doc. 2011-17847 Filed 7-14-11; 8:45 am]

BILLING CODE 4310-W7-P